DEPARTMENT OF ENERGY

Notice of Availability of the Final Environmental Assessment for Waste Disposition Activities at the Paducah Gaseous Diffusion Plant

AGENCY: Department of Energy, DOE.

ACTION: Notice of availability.

SUMMARY: The Department of Energy (DOE), announces the availability of the Finding of No Significant Impact and Environmental Assessment (EA) for Waste Disposition Activities at the Paducah Site (DOE/EA-1339). The EA has been prepared in accordance with the requirements of the National Environmental Policy Act of 1969 as amended (NEPA) (42 U.S.C. 4321 et seq.); Council on Environmental Quality regulations implementing NEPA, 40 CFR Parts 1500-1508; and DOE NEPA Implementing Procedures, 10 CFR Part 1021.

ADDRESSES: Copies of the EA may be obtained from: U.S. Department of Energy, Paducah Site Office, Attn: Mr. Gary Bodenstein, PO Box 1410, Paducah, KY 42001, fax (1-270-441-6801), (BodensteinGW@oro.doe.gov).

The EA is available for review at the U.S. Department of Energy Environmental Information Center, Barkley Centre, 115 Memorial Drive, in Paducah Kentucky. The EA is also available for review at the U.S. Department of Energy Information Center at 475 Oak Ridge Turnpike, Oak Ridge, TN 37830.

FOR FURTHER INFORMATION CONTACT: For general information on the DOE NEPA process, please contact: Ms. Carol M. Borgstrom, Director, Office of NEPA Policy and Compliance (EH-42), U.S. Department of Energy, 1000 Independence Avenue, SW., Washington, DC 20585, telephone 202-586-4600, or leave a message at 1-800-472-2756.

SUPPLEMENTARY INFORMATION: The U.S. Department of Energy (DOE) has completed an environmental assessment (DOE/EA-1339) for proposed disposition of polychlorinated biphenyl (PCB) wastes, low-level radioactive waste (LLW), mixed low-level radioactive waste (MLLW), and transuranic (TRU) waste from the Paducah Site in Paducah, Kentucky. All of the wastes would be transported for disposal at various locations in the United States. Based on the results of the impact analysis reported in the EA, DOE has determined that the proposed action is not a major federal action that would significantly affect the quality of the human environment within the context of the National Environmental Policy Act of 1969 (NEPA). Therefore, preparation of an environmental impact statement was not necessary, and DOE is issuing this Finding of No Significant Impact (FONSI).

Issued in Oak Ridge, Tennessee on March 3, 2003.
James L. Elmore,
Alternate NEPA Compliance Officer.

[FR Doc. 03-5736 Filed 3-10-03; 8:45 am]

BILLING CODE 6450-01-P